DEPARTMENT OF STATE

[Public Notice 5076]

Bureau of Educational and Cultural Affairs (ECA) Request for Grant Proposals: Afghanistan School Administrator Project

Announcement Type: New Grant.

Funding Opportunity Number: ECA/A/S/X-05-02.

Catalog of Federal Domestic Assistance Number: 00.000.

Key Dates:

Application Deadline: June 6, 2005.

Executive Summary: The Office of Global Educational Programs of the Bureau of Educational and Cultural Affairs announces an open competition for the Afghanistan School Administrator Project (ASAP). The goal of the project is to enhance the educational and professional skills of the participants, including their leadership potential. While in the U.S. the participants will gain knowledge about the United States through daily interactions with Americans as well as improve their skills in school administration. The project will bring three different groups of 10-12 participants to the U.S. for a six-to-eight week program between late winter 2006 and spring 2007. The participants will be women who serve as school principals or assistant principals in Afghan schools. The administrators will receive an overview of U.S. education and education philosophy, have a series of workshops on school administration, visit U.S. schools, receive basic English instruction, and receive a computer laptop with training as needed. The grantee organization will assist the participants in conducting follow-on workshops in Afghanistan in cooperation with the Ministry of Education. Upon return to Afghanistan the alumnae will be eligible to compete in a small grants competition. The project will be conducted in three phases outlined below. Bureau funding of up to $700,000 is available to support one grant.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The Bureau of Educational and Cultural Affairs seeks to assist in the on-going efforts of the government of Afghanistan to deliver education to its children by providing a project that targets women educators who are school principals or assistant principals. Concentrating on women school administrators will enhance the schooling of Afghan girls, who still lag behind Afghan boys in educational opportunities, since most women school administrators are at schools that are predominately serving Afghan girls. The goal of this project is to enhance the educational and professional skills of the participants, including their leadership potential. This project will build on the success of the Bureau's Afghanistan Teacher Education Project (ATEP) by continuing to target women educators in Afghanistan, but focus instead on school administrators. By the Afghanistan Teacher Education Project's conclusion a total of 61 basic education and English language teachers, and 24 school principals will have participated in U.S.-based training.

Overview: All programming and logistics including design and implementation of the academic, cultural, and administrative components will be the responsibility of the grantee institution. These responsibilities include designing and implementing a three-phased academic component, which will take place in Afghanistan and the U.S. The first component is Afghan-based and should include the grantee's assessment of the relevant needs of the school principals within the Afghan education system, the recruitment of 10-12 school administrators per group, and a pre-departure orientation to prepare the participants for their program in the U.S. The second component consists of the design of a six-to-eight week U.S.-based program that provides participants with exposure to U.S. education curricula, train the trainer skills, educational materials and technology, leadership skills, and education policy topics that would benefit school administrators in Afghanistan, a cultural component that complements and reinforces material covered in the academic component, homestays, and a visit of no less than four days in Washington, DC. The third component, which will take place after the participants return home, consists of follow-on training in Afghanistan for the participants and other administrators or teachers in cooperation with the Ministry of Education and Public Affairs Section (PAS) of the U.S. Embassy in Kabul. The grantee organization will also design and implement a small grants program so that alumnae of the ASAP Project and the ATEP Project will be able to purchase essential materials for their schools.

The grantee organization will be expected to arrange and budget for housing, meals, international and U.S. transportation, allowances for incidental expenses, books, laptop computer and printer, alumni grants, and excess baggage during all three components.

Responsibilities for this project include:

1. Afghan-Based Activities

A. Needs Assessment: Proposals should describe how, upon receipt of the grant the grantee institution will carry out a needs assessment in Afghanistan to determine which topics school administrators, appropriate Afghan education officials, and PAS-Kabul identify as most relevant to Afghan education, and then develop the project around those priorities. As part of the assessment, the grantee should consult with the Bureau and Embassy Kabul about the feasibility of and timeline for conducting the project as outlined in the applicant's proposal.

B. Recruitment and Selection: The grant recipient will be responsible for identifying 30-36 Afghan women participants for the U.S. phase of the project. The participants should be school principals or assistant principals with a strong commitment to the rebuilding of the education system of Afghanistan. The selected participants should have demonstrated their commitment in recent years by serving Afghanistan's children within the formal education system. The recruitment methodology and specific criteria for participant selection should be outlined in the proposal. However, please note that participants should not be required to speak English. The grantee organization will be responsible for the selection process, with the understanding that the Bureau and PAS-Kabul must be consulted during the recruitment and selection process.

A Kabul-based office or partner organization will be essential in carrying out this project. Applicants should identify in-country (Afghanistan-based) partner organizations and individuals with whom they propose to collaborate, and describe in detail previous cooperative projects undertaken by the organization(s)/individual(s). Specific information about the in-country partner's activities and accomplishments must be included in the section on “Institutional and Language Capacity.” Please include letters of project commitment from any in-country partners. A sub-grant agreement and accompanying budget for activities to be conducted is required if an applicant partners with another organization. Please include this documentation with your proposal submission.

C. Pre-departure Orientation: The grantee organization will conduct a three-day pre-departure orientation in Afghanistan for the participants to prepare them for the project and U.S.-based training and ensure that the expectations of participants are achievable within the objectives of the project.

2. U.S.-Based Academic Workshops

Participants will travel to the U.S. for a six-week training program to enhance their expertise and professional skills as well as their leadership potential. Although the program will reference American examples of education reform, the wide disparity between the American and Afghanistan contexts requires that the focus be on the Afghan education system. Any American examples that are used must have relevance and applicability to the realities of Afghanistan. This project should not be perceived to be an American studies program or a program on concepts of American education, but rather a school administrators project specifically designed for Afghan educators. The approach should be one that provides in-depth content on a few selected themes rather than cursory information on a wide variety of topics. The workshop in the U.S. will upgrade participants' knowledge about educational technology, curriculum and materials development and train-the-trainer skills, while also affording them opportunities to observe student-centered learning. Specific topics might include: establishing coordination among the various components of the education system, turning policy into practice, testing, certification, staff development, community outreach, education technology, parental involvement and student government, etc. In addition, observation of U.S. classrooms and applied practices should be included to inform the Afghan participants about the variety found within the U.S. education system. This will allow the Afghans to interact with the local community and provide Americans the opportunity to experience and learn about the culture of Afghanistan. Orientation sessions must be included for all Afghan and American participants (host families and/or those implementing the academic portion of the program).

3. Afghan-Based Activities Upon Return

A. Follow-On Workshop: The project should also include a follow-on workshop for the participants following their U.S. training, which would be held in Afghanistan, and involve U.S. trainers identified by the grantee organization. The planning and conducting of the workshops should use an Afghan-driven approach. A modest stipend, perhaps $50 per month, could be budgeted for the Afghan principals while the workshop is planned and implemented. In addition, travel, food, and educational materials for all workshop participants should be budgeted for in the proposal. The school principals would be expected to play a central role in developing the Afghan workshop phase, so its design and content should be determined while the participants are in the U.S. phase of the project. The grantee should also consult with the Afghan Ministry of Education on potential participants in the follow-on workshop. Each follow-on workshop should reach out to at least 60 more educators in Afghanistan and provide relevant education materials in Dari (and Pashto if possible) to the participants. At least 180 principals from all three groups should participate in the follow-on phase. The project should be designed so that the sharing of information and training that occurs during the grant period will continue long after the grant concludes.

B. Alumnae Small Grant Program: Approximately $100,000 of the $700,000 budget should be allocated for a potential small grants program that the grantee institution would design and implement. Should funds be available, alumnae of ATEP and ASAP would be eligible to apply for grants of up to $2,000 to purchase materials for their schools or to develop school linkages with the U.S. The grantee institution should establish criteria for the competition and after consultation with ECA, notify eligible participants that such a program is available. A workshop on writing grant requests should be held in Afghanistan or during the U.S. program to help alumnae develop grant-writing skills. Given that the alumnae will write grant proposals in the local languages, the grantee institution will need to provide PAS-Kabul and the Bureau Program Officer with a summary of each proposal in English for final approval.

Timing: The project would preferably be implemented during a time frame that will cause the least disruption to the Afghan education system and the on-going responsibilities of the participants. Concurrence must be obtained from the Bureau and PAS-Kabul on the timing of the project.

Further Information and Guidance: Please review the Project Objectives, Goals and Implementation (POGI) document, which provides specific information, award criteria and budget instructions tailored to this competition.

II. Award Information

Type of Award: Grant Agreement.

Fiscal Year Funds: FY-2005.

Approximate Total Funding: $700,000.

Approximate Number of Awards: 1.

Approximate Average Award: $700,000.

Anticipated Award Date: Pending availability of funds, September 1, 2005.

Anticipated Project Completion Date: June 30, 2007.

Additional Information: Pending successful implementation of this program and the availability of funds in subsequent fiscal years, it is ECA's intent to renew this grant for two additional fiscal years, before openly competing it again.

III. Eligibility Information

III.1. Eligible Applicants

Proposals may be submitted by public and private non-profit organizations meeting the provisions described in Internal Revenue Code section 26 U.S.C. 501(c)(3).

III.2. Cost Sharing or Matching Funds

There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal Government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements

a. Bureau grant guidelines require that organizations with less than four years experience in conducting international exchanges be limited to $60,000 in Bureau funding. ECA anticipates awarding one grant, in an amount up to $700,000 to support program and administrative costs required to implement this exchange program. Therefore, organizations with less than four years experience in conducting international exchanges are ineligible to apply under this competition. The Bureau encourages applicants to provide maximum levels of cost sharing and funding in support of its programs.

IV. Application and Submission Information

Note: Please read the complete Federal Register announcement before sending inquiries or submitting proposals. Once the RFGP deadline has passed, Bureau staff may not discuss this competition with applicants until the proposal review process has been completed.

IV.1. Contact Information To Request an Application Package

Please contact the Office of Global Educational Programs, ECA/A/S/X, Room #349, U.S. Department of State, SA-44, 301 4th Street, SW., Washington, DC 20547, 202 619-4555, mosleypj@state.gov to request a Solicitation Package. Please refer to the Funding Opportunity Number ECA/A/S/X-05-02 located at the top of this announcement when making your request.

The Solicitation Package contains the Proposal Submission Instruction (PSI) document which consists of required application forms, and standard guidelines for proposal preparation.

It also contains the Project Objectives, Goals and Implementation (POGI) document, which provides specific information, award criteria and budget instructions tailored to this competition. Please specify Bureau Senior Program Officer Mary Lou Johnson-Pizarro and refer to the Funding Opportunity Number ECA/A/S/X-05-02 located at the top of this announcement on all other inquiries and correspondence.

IV.2. To Download a Solicitation Package Via Internet

The entire Solicitation Package may be downloaded from the Bureau's Web site at http://exchanges.state.gov/education/rfgps/menu.htm. Please read all information before downloading.

IV.3. Content and Form of Submission

Applicants must follow all instructions in the Solicitation Package. The original and eight copies of the application should be sent per the instructions under IV.3e. “Submission Dates and Times section” below.

IV.3a. You Are Required To Have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa. The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810; FAX: (202) 401-9809.

Please refer to Solicitation Package for further information.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other technique plus a description of a methodology to use to link outcomes to original project objectives. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3d.4. Describe your plans for: i.e. sustainability, overall program management, staffing, coordination with the Bureau and PAS-Kabul or any other requirements etc.

IV.3e. Please take the following information into consideration when preparing your budget:

IV.3e.1. Applicants must submit a comprehensive budget for the entire program. One award will be made and it may not exceed $700,000. There must be a summary budget as well as breakdowns reflecting both administrative and program budgets. Applicants may provide separate sub-budgets for each program component, phase, location, or activity to provide clarification.

IV.3e.2. Allowable costs for the program include the following:

(1) International and Domestic Travel

(2) U.S. Ground Transportation

(3) Host Families

(4) Professional Development Seminars/Conference and Debriefing (instruction, materials, logistics)

(5) Participant Maintenance (6-8 weeks)

(6) Cultural Activities

(7) Book Allowance/Shipping

(8) Laptop Computer and Printer

(9) Grantee administrative costs

(10) Interpretation and Translation Costs

(11) Small alumni grants

The Bureau will consider funding project activities in addition to those specifically listed in the RFGP as long as they are not designated unallowable.

Please refer to the Solicitation Package for complete budget guidelines and formatting instructions.

IV.3f. Submission Dates and Times:

Application Deadline Date: June 6, 2005.

Explanation of Deadlines: Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important note: When preparing your submission please make sure to include one extra copy of the completed SF-424 form and place it in an envelope addressed to “ECA/EX/PM''.

The original and eight copies of the application should be sent to: U.S. Department of State, SA-44, Bureau of Educational and Cultural Affairs, Ref.: ECA/A/S/X-05-02, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

IV.3h. Applicants must also submit the “Executive Summary” and “Proposal Narrative” sections of the proposal in text (.txt) format on a PC-formatted disk. The Bureau will provide these files electronically to the U.S. Embassy's Public Affairs Section in Kabul for their review.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Program planning: A detailed agenda and relevant work plan should demonstrate substantive undertakings and logistical capacity. Agenda and plan should adhere to the program overview and guidelines described above.

2. Ability to achieve program objectives: Objectives should be reasonable, feasible, and flexible. Proposals should clearly demonstrate how the institution will meet the program's objectives and plan.

3. Support of Diversity: Proposals should demonstrate substantive support of the Bureau's policy on diversity. Achievable and relevant features should be cited in both program administration (selection of participants, program venue and program evaluation) and program content (orientation and wrap-up sessions, program meetings, resource materials and follow-on activities).

4. Institutional and Language Capacity: Proposals should demonstrate an institutional record of successful exchange programs, including responsible fiscal management and full compliance with all reporting requirements for past Bureau grants as determined by Bureau Grants Staff. The Bureau will consider the past performance of prior recipients and the demonstrated potential of new applicants. Also, the applicant should indicate the capacity to conduct the program in Dari.

5. Project Evaluation: Proposals should include a plan to evaluate the activity's success, both as the activities unfold and at the end of the program. The Bureau recommends that the proposal include a draft survey questionnaire or other technique plus description of a methodology to use to link outcomes to original project objectives. An illustrative sample can be found in the POGI and should be modified to fit the needs of this project.

6. Cost-effectiveness: The overhead and administrative components of the proposal, including salaries and honoraria, should be kept as low as possible. All other items should be necessary and appropriate.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants.

http://exchanges.state.gov/education/grantsdiv/terms.htm#articleI.

VI.3. Reporting Requirements

You must provide ECA with a hard copy original plus two copies of a final program and financial report no more than 90 days after the expiration of the award.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Organizations awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place. Final schedules for in-country and U.S. activities must be received by the ECA Program Officer at least one week prior to the official opening of the activity.

VII. Agency Contacts

For questions about this announcement, contact: Mary Lou Johnson-Pizarro, Office of Global Educational Programs, ECA/A/S/X, Room #349, ECA/A/S/X-05-02, U.S. Department of State, SA-44, 301 4th Street, SW., Washington, DC 20547, phone (202) 401-5969, fax (202) 401-1433, Johnson-PizarroML@state.gov.

All correspondence with the Bureau concerning this RFGP should reference the above title and number ECA/A/S/X-05-02.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: May 5, 2005.
C. Miller Crouch,
Principal Deputy Assistant Secretary, Bureau of Educational and Cultural Affairs, Department of State.

[FR Doc. 05-9493 Filed 5-11-05; 8:45 am]

BILLING CODE 4710-05-P